DEPARTMENT OF TRANSPORTATION

Federal Aviation Administration

14 CFR Part 39

[Docket No. FAA-2024-2661; Project Identifier MCAI-2024-00269-T; Amendment 39-23041; AD 2025-10-07]

RIN 2120-AA64

Airworthiness Directives; Airbus SAS Airplanes

AGENCY: Federal Aviation Administration (FAA), DOT.

ACTION: Final rule.

SUMMARY: The FAA is superseding Airworthiness Directive (AD) 2015-02-14, which applied to all Airbus SAS Model A318 series airplanes; A319-111, -112, -113, -114, -115, -131, -132, and -133 airplanes; A320-211, -212, -214, -231, -232, and -233 airplanes; and A321-111, -112, -131, -211, -212, -213, -231, and -232 airplanes. AD 2015-02-14 required repetitive inspections for cracking, damage, correct installation, and correct adjustment of the main landing gear (MLG) door hinge and actuator fittings on the keel beam, corrective actions if necessary, and revision of the existing maintenance or inspection program, as applicable. Since the FAA issued AD 2015-02-14, a new design of the MLG door keel beam hinge and actuator fitting was developed. This AD continues to require the actions specified in AD 2015-02-14, adds an optional terminating action, and revises the applicability, as specified in a European Union Aviation Safety Agency (EASA) AD, which is incorporated by reference. The FAA is issuing this AD to address the unsafe condition on these products.

DATES: This AD is effective June 26, 2025.

The Director of the Federal Register approved the incorporation by reference of a certain publication listed in this AD as of June 26, 2025.

ADDRESSES:

AD Docket: You may examine the AD docket at regulations.gov under Docket No. 2024-2661; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2661.

FOR FURTHER INFORMATION CONTACT: Tim Dowling, Aviation Safety Engineer, FAA, 2200 South 216th St., Des Moines, WA 98198; phone: 206-231-3667; email: timothy.p.dowling@faa.gov.

SUPPLEMENTARY INFORMATION:

Background

The FAA issued a notice of proposed rulemaking (NPRM) to amend 14 CFR part 39 to supersede AD 2015-02-14, Amendment 39-18081 (80 FR 11096, March 2, 2015) (AD 2015-02-14). AD 2015-02-14 applied to all Airbus SAS Model A318 series airplanes; Model A319-111, -112, -113, -114, -115, -131, -132, and -133 airplanes; Model A320-211, -212, -214, -231, -232, and -233 airplanes; and Model A321-111, -112, -131, -211, -212, -213, -231, and -232 airplanes. AD 2015-02-14 required repetitive inspections for cracking, damage, correct installation, and correct adjustment of the MLG door hinge and actuator fittings on the keel beam; corrective actions if necessary; and revision of the existing maintenance or inspection program, as applicable. The FAA issued AD 2015-02-14 to detect and correct cracking on the MLG door hinge fitting and actuator fitting on the keel beam, which could lead to in-flight detachment of an MLG door, possibly resulting in injury to persons on the ground and/or damage to the airplane.

The NPRM was published in the Federal Register on December 17, 2024 (89 FR 102016). The NPRM was prompted by AD 2024-0097R2, dated July 12, 2024 (EASA AD 2024-0097R2) (also referred to as the MCAI), which superseded EASA AD 2012-0118, dated July 4, 2012 (which corresponds to FAA AD 2015-02-14), issued by EASA, which is the Technical Agent for the Member States of the European Union. The MCAI states that after EASA AD 2012-0118 was issued, a new design of the MLG door keel beam hinge and actuator fitting was certified for current engine option (CEO) airplanes (Model A318-111, A318-112, A318-121, A318-122; A319-111, A319-112, A319-113, A319-114, A319-115, A319-131, A319-132, A319-133; A320-211, A320-212, A320-214, A320-215, A320-216, A320-231, A320-232, A320-233; and A321-111, A321-112, A321-131, A321-211, A321-212, A321-213, A321-231, and A321-232 airplanes) and new engine option (NEO) airplanes (Model A319-151N, A319-153N, A319-171N; A320-251N, A320-252N, A320-253N, A320-271N, A320-272N, A320-273N; A321-251N, A321-251NX, A321-252N, A321-252NX, A321-253N, A321-253NX, A321-271N, A321-271NX, A321-272N, and A321-272NX airplanes). The MCAI states that the applicability is expanded to include the NEO airplanes which are subject to the same unsafe condition. Model A320-215 airplanes are not certificated by the FAA and are not included on the U.S. type certificate data sheet; this AD therefore does not include those airplanes in the applicability.

In the NPRM, the FAA proposed to continue to require the actions specified in AD 2015-02-14, add an optional terminating action, and revise the applicability, as specified in EASA AD 2024-0097R2. The FAA is issuing this AD to detect and correct cracking on the MLG door hinge fitting and actuator fitting on the keel beam, which could lead to in-flight detachment of a MLG door, possibly resulting in injury to persons on the ground and/or damage to the airplane.

You may examine the MCAI in the AD docket at regulations.gov under Docket No. FAA-2024-2661.

Discussion of Final Airworthiness Directive

Comments

The FAA received comments from the Air Line Pilots Association, International (ALPA) and United Airlines, who supported the NPRM without change.

The FAA received additional comments from American Airlines (AA), Delta Air Lines (Delta), and Spirit Airlines. The following presents the comments received on the NPRM and the FAA's response to each comment.

Request To Correct a Typographical Error

AA and Delta requested the FAA revise paragraph (k)(1)(ii) of the proposed AD to read “AMOCs approved previously for FAA AD 2015-02-14 are approved as AMOCs for the corresponding provisions of EASA AD 2024-0097R2 that are required by paragraph (g) of this AD.” (Paragraph (k)(1)(ii) of the proposed AD inadvertently referenced EASA AD 2012-0118, instead of EASA AD 2024-0097R2.)

The FAA agrees and has revised paragraph (k)(1)(ii) of this AD accordingly.

Request To Clarify Superseding Relationship Between Airworthiness Limitations Tasks and Airbus Service Bulletins

Spirit Airlines requested that when the FAA issues an AD to incorporate Airworthiness Limitations Section (ALS) Part 2, Revision 11 (which is scheduled for release November 2024), it include a caveat or clarification detailing the superseding relationship between Airworthiness Limitations (ALI) tasks 533154-10-1 and 533154-03-2, and Airbus Service Bulletin A320-53-1195, Airbus Service Bulletin A320-53-1325, Airbus Service Bulletin A320-53-1196, and Airbus Service Bulletin A320-53-1326. Spirit Airlines stated that it will not be able to incorporate ALI tasks 533154-10-1 and 533154-03-2 and Airbus Service Bulletin A320-53-1195, Airbus Service Bulletin A320-53-1325, Airbus Service Bulletin A320-53-1196, and Airbus Service Bulletin A320-53-1326 simultaneously, and a clear explanation will help avoid any confusion or conflicts when implementing the updated AD.

The FAA does not agree with the request. Airbus will update the ALS as needed to address the superseding relationship between ALI tasks 533154-10-1 and 533154-03-2, and Airbus Service Bulletin A320-53-1195, Airbus Service Bulletin A320-53-1325, Airbus Service Bulletin A320-53-1196, and Airbus Service Bulletin A320-53-1326. The FAA has not changed this AD in this regard.

Request for a Grace Period

Delta requested the FAA allow a 3-month grace period to comply with the initial inspection requirements in paragraphs (1) and (2) of EASA AD 2024-0097R2 for NEO airplanes. Delta requested this grace period to continue to use ALI task 533154-03-2 in lieu of Airbus Service Bulletin A320-53-1325, as referenced in paragraph (1) of EASA AD 2024-0097R2; and to continue to use ALI task 533154-04-2 or ALI task 533154-10-1 in lieu of Airbus Service Bulletin A320-53-1326 referenced in paragraph (2) of EASA AD 2024-0097R2. Delta noted that ALI tasks are mandatory inspections; therefore, until the final rule is issued, U.S. operators would have no authority to use those service bulletins in lieu of those ALI inspections. Delta stated that the current language in the proposed AD would require, from the effective date of the AD, that operators immediately switch from the ALI tasks to the Airbus service bulletins. Delta added that this could be logistically very difficult, especially if the ALI inspection is being performed on several airplanes on the AD's effective date.

The FAA agrees to include a grace period for the transition for NEO airplanes only. CEO airplanes have been subject to the compliance times specified in AD 2015-02-14 and therefore do not need a grace period. The FAA has added paragraphs (h)(6) and (7) to this AD accordingly.

Request To Remove Ultrasonic Inspection

AA requested the FAA revise paragraph (g) of the proposed AD to require operators to also comply with the changes detailed in Airbus Service Bulletin Information Transmission/Operators Information Transmission (SBIT/OIT) 23-0074, Revision 01, dated June 7, 2024. Airbus SBIT/OIT 23-0074 removes the “ultrasonic” inspection wording from Airbus Service Bulletin A320-53-1196 and Airbus Service Bulletin A320-53-1326. AA stated that the Non-Destructive Testing Manual (NTM) referenced in the Airbus service bulletins does not contain ultrasonic inspection instructions.

The FAA agrees that the ultrasonic inspection is not necessary and has added paragraph (h)(8) of this AD to clarify the requirement accordingly.

Additional Changes to This AD

The FAA revised paragraph (i) of this AD, including removing paragraphs (i)(1) and (2) of the proposed AD. The FAA determined that the actions specified in paragraph (i) of this AD are only applicable to the CEO airplanes, since the NEO airplanes are not in the ALI documents specified in paragraph (i) of this AD.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

EASA AD 2024-0097R2 specifies procedures for repetitive detailed visual, high frequency eddy current (HFEC), and ultrasonic inspections of the MLG door actuator fittings on the keel beam for discrepancies (cracks, wear marks, migration of the plain bush, loose flanged bush, and other damage). Corrective actions include replacement of the affected MLG door actuator fitting, modification of the actuator and hinge fittings at the MLG door, and repair of any cracks, loose flanged bush axial, bush migration, wear marks underneath the bolt head, and other damage on the left and right sides of the airplane.

EASA AD 2024-0097R2 also specifies procedures for repetitive detailed visual and HFEC inspections of the MLG door hinge fittings on the keel beam for discrepancies (cracks, migration of the plain bush, wear marks, and other damage). Corrective actions include replacement of the MLG door hinge fitting, modification of the actuator and hinge fittings at the MLG door, and repair of any bush migration, wear marks underneath the bolt head, and other damage on the left and right sides of the airplane.

EASA AD 2024-0097R2 also specifies procedures for modifying the actuator and hinge fittings at the MLG door for the following parts: MLG actuator fittings, hinge fittings, and connecting plates between frame (FR) 42 and FR 43; accomplishment of this modification terminates the repetitive inspections.

This material is reasonably available because the interested parties have access to it through their normal course of business or by the means identified in the ADDRESSES section.

Costs of Compliance

The FAA estimates that this AD affects 1,766 airplanes of U.S. registry.

The FAA estimates the following costs to comply with this AD:

Estimated Costs for Required Actions
Action | Labor cost | Parts cost | Cost per product | Cost on U.S. operators
Inspections | 20 work-hours × $85 per hour = $1,700 | $0 | $1,700 | $3,002,200

Estimated Costs for Optional Actions
Action | Labor cost | Parts cost | Cost per product
Modify the actuator and hinge fittings at MLG door | 82 work-hours × $85 per hour = $6,970 | $52,000 | $58,970

The FAA estimates the following costs to do any fitting replacement that would be required based on the results of any required actions. The FAA has no way of determining the number of aircraft that might need a fitting replacement:

Estimated Costs of On-Condition Actions
Labor cost | Parts cost | Cost per product
38 work-hours × $85 per hour = $3,230 | $6,742 | $9,972

The FAA has received no definitive data on which to base the cost estimates for the repairs specified in this AD.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2015-02-14, Amendment 39-18081 (80 FR 11096, March 2, 2015); and

b. Adding the following new AD:

2025-10-07 Airbus SAS: Amendment 39-23041; Docket No. FAA-2024-2661; Project Identifier MCAI-2024 00269-T.

(a) Effective Date

This airworthiness directive (AD) is effective June 26, 2025.

(b) Affected ADs

This AD replaces AD 2015-02-14, Amendment 39-18081 (80 FR 11096, March 2, 2015) (AD 2015-02-14).

(c) Applicability

This AD applies to the Airbus SAS airplanes identified in paragraphs (c)(1) through (7) of this AD, certificated in any category, as identified in European Union Aviation Safety Agency (EASA) AD 2024-0097R2, dated July 12, 2024 (EASA AD 2024-0097R2).

(1) Model A318-111, -112, -121, and -122 airplanes.

(2) Model A319-111, -112, -113, -114, -115, -131, -132, and -133 airplanes.

(3) Model A319-151N, -153N, and -171N airplanes.

(4) Model A320-211, -212, -214, -216, -231, -232, and -233 airplanes.

(5) Model A320-251N, -252N, -253N, -271N, -272N, and -273N airplanes.

(6) Model A321-111, -112, -131, -211, -212, -213, -231, and -232 airplanes.

(7) Model A321-251N, -251NX, -252N, -252NX, -253N, -253NX, -271N, -271NX, -272N, and -272NX airplanes.

(d) Subject

Air Transport Association (ATA) of America Code 53, Fuselage.

(e) Unsafe Condition

This AD was prompted by reports of cracks on the main landing gear (MLG) door hinge fitting and actuator fitting on the keel beam. The FAA is issuing this AD to detect and correct cracking on the MLG door hinge fitting and actuator fitting on the keel beam. The unsafe condition, if not addressed, could lead to in-flight detachment of an MLG door, possibly resulting in injury to persons on the ground and/or damage to the airplane.

(f) Compliance

Comply with this AD within the compliance times specified, unless already done.

(g) Requirements

Except as specified in paragraphs (h) and (j) of this AD: Comply with all required actions and compliance times specified in, and in accordance with, EASA AD 2024-0097R2.

(h) Exceptions to EASA AD 2024-0097R2

(1) Where EASA AD 2024-0097R2 refers to “16 May 2024 [the effective date of the original issue of this AD],” this AD requires using the effective date of this AD.

(2) Where EASA AD 2024-0097R2 refers to “18 July 2012 [the effective date of EASA AD 2012-0118],” this AD requires using April 6, 2015 (the effective date of AD 2015-02-14).

(3) Where EASA AD 2024-0097R2 specifies to “contact Airbus for approved repair instructions and, within the compliance time specified therein, accomplish those instructions accordingly”, replace that text with “all repairs must be done before further flight using a method approved by the Manager, AIR-520, Continued Operational Safety Branch, FAA; or EASA; or Airbus SAS's EASA Design Organization Approval (DOA). If approved by the DOA, the approval must include the DOA-authorized signature”.

(4) Where paragraph (6) of EASA AD 2024-0097R2 describes an airplane that has been inspected per “ALI task 533154-03-2, 533154-04-2 or 533154-10-1, or in accordance with the instructions of inspection SB 1 (at any Revision) or inspection SB 2 (at any Revision)”, replace that text with “ALI task 533154-03-2, 533154-04-2 or 533154-10-1, or in accordance with the instructions of Airbus SB A320-53-1195 or SB A320-53-1325 at any Revision, as applicable, or Airbus SB A320-53-1196 or SB A320-53-1326 at any Revision, as applicable”.

(5) This AD does not adopt the “Remarks” section of EASA AD 2024-0097R2.

(6) For airplanes identified in paragraphs (c)(3), (5), and (7) of this AD: Where paragraph (1) of EASA AD 2024-0097R2 specifies accomplishing inspection “in accordance with the instructions of the inspection SB 1, as applicable”, this AD requires replacing that text with “in accordance with the instructions of the inspection SB 1, as applicable, or Airworthiness Limitations task 533154-03-2. As of 3 months after the effective date of FAA AD 2025-10-07, only the inspection SB 1, as applicable, may be used”.

(7) For airplanes identified in paragraphs (c)(3), (5), and (7) of this AD: Where paragraph (2) of EASA AD 2024-0097R2 specifies accomplishing inspection “in accordance with the instructions of the inspection SB 2, as applicable”, this AD requires replacing that text with “in accordance with the instructions of the inspection SB 2, as applicable, or Airworthiness Limitations task 533154-04-2 or task 533154-10-1. As of 3 months after the effective date of FAA AD 2025-10-07, only the inspection SB 2, as applicable, may be used”.

(8) Where the “Inspection SB 2” as defined in EASA AD 2024-0097R2 specifies to do an ultrasonic inspection in addition to a high frequency eddy current (HFEC) inspection, this AD does not require an ultrasonic inspection.

(i) Retained Maintenance or Inspection Program Revision, With No Changes

This paragraph restates the requirements of paragraph (k) of AD 2015-02-14 with no changes. For airplanes identified in paragraphs (c)(1), (2), (4), and (6) of this AD: After April 6, 2015 (the effective date of AD 2015-02-14) and before further flight after doing the initial inspections required by paragraph (g) of this AD: Revise the maintenance or inspection program, as applicable, to remove Task 533154-02-1 of the Airbus A318/A319/A320/A321 ALS Part 2-Damage Tolerant Airworthiness Limitations Items (DT ALI), Revision 01, dated April 4, 2012; Airbus A318/A319/A320/A321 Airworthiness Limitation Items, Document AI/SE-M4/95A.0252/96, Issue 10, dated October 2009; or Airbus A318/A319/A320/A321 Airworthiness Limitation Items, Document AI/SE-M4/95A.0252/96, Issue 11, dated September 2010. The actions required by this AD take precedence over Task 533154-02-1 of the Airbus A318/A319/A320/A321 ALS Part 2 Damage Tolerant Airworthiness Limitation Items (DT ALI), Revision 01, dated April 4, 2012; Airbus A318/A319/A320/A321 Airworthiness Limitation Items, Document AI/SE-M4/95A.0252/96, Issue 10, dated October 2009; and Airbus A318/A319/A320/A321 Airworthiness Limitation Items, Document AI/SE-M4/95A.0252/96, Issue 11, dated September 2010.

(j) No Reporting Requirement

Although the material referenced in EASA AD 2024-0097R2 specifies to submit certain information to the manufacturer, this AD does not include that requirement.

(k) Additional AD Provisions

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (l) of this AD and email to: AMOC@faa.gov.

(i) Before using any approved AMOC, notify your appropriate principal inspector, or lacking a principal inspector, the manager of the responsible Flight Standards Office.

(ii) AMOCs approved previously for AD 2015-02-14 are approved as AMOCs for the corresponding provisions of EASA AD 2024-0097R2 that are required by paragraph (g) of this AD.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraph (k)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Additional Information

For more information about this AD, contact Tim Dowling, Aviation Safety Engineer, FAA, 2200 South 216th St., Des Moines, WA 98198; phone: 206-231-3667; email: timothy.p.dowling@faa.gov.

(m) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2024-0097R2, dated July 12, 2024.

(ii) [Reserved]

(3) For EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on May 12, 2025.
Peter A. White,
Deputy Director, Integrated Certificate Management Division, Aircraft Certification Service.

[FR Doc. 2025-09222 Filed 5-21-25; 8:45 am]

BILLING CODE 4910-13-P